UTAH RECLAMATION MITIGATION AND CONSERVATION COMMISSION

Notice of Availability of a Finding of No Significant Impact on the Final Environmental Assessment for the Diamond Fork System 2002 Proposed Action Modifications Documenting the Commission's Approval for the Central Utah Water Conservancy District To Proceed With Constructing the Diamond Fork System 2002 Proposed Action Modifications

AGENCIES: Office of the Assistant Secretary—Water and Science, Department of the Interior and the Utah Reclamation Mitigation and Conservation Commission.

ACTION: Notice of availability of a Finding of No Significant Impact on the Final Environmental Assessment for the Diamond Fork System 2002 Proposed Action Modifications.

SUMMARY: On March 28, 2002, Michael C. Weland, Executive Director of the Utah Reclamation Mitigation and Conservation Commission (Mitigation Commission), signed a FONSI. The FONSI documents selection of the Proposed Action Modifications as presented in the Final Environmental Assessment for the Diamond Fork System 2002 Proposed Action Modifications (2002 Modifications EA). The Mitigation Commission determined that implementing the modifications to the Proposed Action Alternative described in the 2002 Modifications EA will not have a significant impact on the quality of the human environment and that an environmental impact statement is not required.

The Commission's FONSI also approves the Central Utah Water Conservancy District (CUWCD) proceeding with construction of the Diamond Fork System, in accordance with statutory and contractual obligations. The following features will be constructed as part of the modifications to the Proposed Action: (1) Sixth Water Connection; (2) Tanner Ridge Tunnel; (3) Upper Diamond Fork Pipeline; (4) Upper Diamond Fork Flow Control Structure; (5) Upper Diamond Fork Shafts; (6) Aeration Chamber and Connection to Upper Diamond Fork Tunnel; (7) Upper Diamond Fork Tunnel; and (8) Diamond Fork Flow Control Facility.

The Proposed Action Modifications will be operated on an interim basis the same as described in the July 1999 Diamond Fork System Final Supplement to the Final Environmental Impact Statement, including the quantity and timing of minimum streamflows and the flexibility to other operational scenarios, except for the discharge location of the minimum streamflows into Diamond Fork Creek. The potential for generating hydroelectric power would remain the same as described in the FS-FEIS.

ADDRESSES: Address requests for further information to Mark Holden, Projects Manager, Utah Reclamation Mitigation and Conservation Commission, 102 West 500 South, Suite 315, Salt Lake City, UT 84101.

FOR FURTHER INFORMATION CONTACT: Mark Holden, Projects Manager, 801-524-3146. mholden@uc.usbr.gov.

Dated: March 28, 2002.
Michael C. Weland,
Utah Reclamation Mitigation and Conservation Commission Executive Director.

[FR Doc. 02-8050 Filed 4-2-02; 8:45 am]

BILLING CODE 4310-05-P